NATIONAL SCIENCE FOUNDATION

Notice of Permit Applications Received Under the Antarctic Conservation Act of 1978 (P.L. 95-541)

AGENCY: National Science Foundation.

ACTION: Notice of permit applications received under the Antarctic Conservation Act of 1978, Pub. Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 18, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas as requiring special protection. The regulations establish such a permit system to designate Specially Protected Areas and Sites of Special Scientific Interest.

The applications received are as follows:

Permit Application No. 2001-024

Applicant: Raymond V. Arnaudo, Department of State, OES/OA, Room 5805, 2201 C Street, NW., Washington, DC 20520-7818.

Activity for Which Permit is Requested: Enter Antarctic Specially Protected Areas. The applicant proposes to conduct inspections of several Antarctic Peninsula Antarctic Specially Protected Areas, as provided for in Article VII(1) of the Antarctic Treaty, during the February 2001 cruise of the LAURENCE M. GOULD. The applicant proposes to inspect the following sites on an opportunity basis: Litchfield Island (ASPA 113); Biscoe Point, Anvers Island (ASPA 139); Western Shore of Admiralty Bay (ASPA 128); Shores of Port Foster, Deception Island (ASPA 140); Potter Peninsula, King George Island (ASPA 132); and, Ardley Island (ASPA 150). Access to the sites will be by zodiac.

Location: Litchfield Island (ASPA 113); Biscoe Point, Anvers Island (ASPA 139); Western Shore of Admiralty Bay (ASPA 128); Shores of Port Foster, Deception Island (ASPA 140); Potter Peninsula, King George Island (ASPA 132); and, Ardley Island (ASPA 150).

Dates: February 4, 2001 to March 4, 2001.

Nadene G. Kennedy,
Permit Officer, Office of Polar Programs.

[FR Doc. 00-32326 Filed 12-19-00; 8:45 am]

BILLING CODE 7555-01-M